ENVIRONMENTAL PROTECTION AGENCY

[EPA-HQ-OPP-2015-0301; FRL-9927-18]

Pesticide Emergency Exemptions; Agency Decisions and State and Federal Agency Crisis Declarations

AGENCY: Environmental Protection Agency (EPA).

ACTION: Notice.

SUMMARY: EPA has granted emergency exemptions under the Federal Insecticide, Fungicide, and Rodenticide Act (FIFRA) for use of pesticides as listed in this notice. The exemptions were granted during the period October 1, 2014 to March 31, 2015 to control unforeseen pest outbreaks.

FOR FURTHER INFORMATION CONTACT: Susan Lewis, Registration Division (7505P), Office of Pesticide Programs, Environmental Protection Agency, 1200 Pennsylvania Ave. NW., Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. How can I get copies of this document and other related information?

The docket for this action, identified by docket identification (ID) number EPA-HQ-OPP-2015-0301, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

EPA has granted emergency exemptions to the following State and Federal agencies. The emergency exemptions may take the following form: Crisis, public health, quarantine, or specific.

Under FIFRA section 18 (7 U.S.C. 136p), EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are emergency exemptions issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption, the type of exemption, the pesticide authorized and the pests, the crop or use for which authorized, and the duration of the exemption.

III. Emergency Exemptions

A. U.S. States and Territories

Alabama

Department of Agriculture

Specific exemption: EPA authorized the use of potassium salt of hop beta acids in beehives to control varroa mite; February 4, 2015 to December 31, 2015.

Specific exemption: EPA authorized the use of sulfoxaflor on sorghum to control sugarcane aphid; February 26, 2015 to November 30, 2015.

Arkansas

State Plant Board

Specific exemption: EPA authorized the use of fluridone in cotton to control Palmer amaranth; January 20, 2015 to August 31, 2015.

Specific exemption: EPA authorized the use of potassium salt of hop beta acids in beehives to control varroa mite; February 4, 2015 to December 31, 2015.

Specific exemption: EPA authorized the use of sulfoxaflor on sorghum to control sugarcane aphid; February 26, 2015 to October 31, 2015.

California

Department of Environmental Protection

Specific exemption: EPA authorized the use of potassium salt of hop beta acids in beehives to control varroa mite; February 4, 2015 to December 31, 2015.

Colorado

Department of Agriculture

Specific exemption: EPA authorized the use of potassium salt of hop beta acids in beehives to control varroa mite; February 4, 2015 to December 31, 2015.

Florida

Department of Agriculture and Consumer Services

Specific exemption: EPA authorized the use of potassium salt of hop beta acids in beehives to control varroa mite; February 4, 2015 to December 31, 2015.

Specific Exemption: EPA authorized the use of clothianidin on immature (3 to 5 years old) citrus trees to manage transmission of Huanglongbing (HLB) disease vectored by the Asian citrus psyllid; March 31, 2015 to October 31, 2015.

Georgia

Department of Agriculture

Specific exemption: EPA authorized the use of fluridone in cotton to control Palmer amaranth; January 20, 2015 to August 31, 2015.

Specific exemption: EPA authorized the use of potassium salt of hop beta acids in beehives to control varroa mite; February 4, 2015 to December 31, 2015.

Specific exemption: EPA authorized the use of sulfoxaflor on sorghum to control sugarcane aphid; February 26, 2015 to November 30, 2015.

Idaho

Department of Agriculture

Crisis exemption: On March 6, 2015 the Idaho Department of Agriculture declared a crisis for the use of thiabendazole on succulent pea seed to control Fusarium and Aschochyta blight.

Specific exemption: EPA authorized the use of potassium salt of hop beta acids in beehives to control varroa mite; February 4, 2015 to December 31, 2015.

Illinois

Department of Agriculture

Specific exemption: EPA authorized the use of potassium salt of hop beta acids in beehives to control varroa mite; February 4, 2015 to December 31, 2015.

Iowa

Department of Agriculture

Specific exemption: EPA authorized the use of potassium salt of hop beta acids in beehives to control varroa mite; February 4, 2015 to December 31, 2015.

Kansas

Department of Agriculture

Specific Exemption: EPA authorized the use of sulfoxaflor on sorghum to control sugarcane aphid; March 31, 2015 to November 30, 2015.

Louisiana

Department of Agriculture and Forestry

Specific exemption: EPA authorized the use of potassium salt of hop beta acids in beehives to control varroa mite; February 4, 2015 to December 31, 2015.

Specific exemption: EPA authorized the use of anthraquinone on rice seed to repel blackbirds; March 20, 2015 to June 1, 2015.

Specific exemption: EPA authorized the use of sulfoxaflor on sorghum to control sugarcane aphid; March 12, 2015 to October 31, 2015.

Maryland

Department of Agriculture

Specific exemption: EPA authorized the use of potassium salt of hop beta acids in beehives to control varroa mite; February 4, 2015 to December 31, 2015.

Massachusetts

Department of Agricultural Resources

Specific Exemption: EPA authorized the use of potassium salt of hop beta acids in beehives to control varroa mite; March 30, 2015 to December 31, 2015.

Michigan

Department of Agriculture and Rural Development

Specific exemption: EPA authorized the use of potassium salt of hop beta acids in beehives to control varroa mite; March 12, 2015 to December 31, 2015.

Minnesota

Department of Agriculture

Quarantine exemption: EPA authorized the use of potassium chloride to control zebra and quagga mussels in Christmas Lake and Lake Independence; November 26, 2014 to November 26, 2017.

Mississippi

Department of Agriculture and Commerce

Specific exemption: EPA authorized the use of potassium salt of hop beta acids in beehives to control varroa mite; February 5, 2015 to December 31, 2015.

Specific exemption: EPA authorized the use of sulfoxaflor on sorghum to control sugarcane aphid; February 26, 2015 to October 31, 2015.

Missouri

Department of Agriculture

Specific exemption: EPA authorized the use of fluridone in cotton to control Palmer amaranth; January 20, 2015 to August 31, 2015.

Specific exemption: EPA authorized the use of potassium salt of hop beta acids in beehives to control varroa mite; February 4, 2015 to December 31, 2015.

Specific Exemption: EPA authorized the use of sulfoxaflor on sorghum to control sugarcane aphid; March 27, 2015 to October 31, 2015.

Nebraska

Department of Agriculture

Specific exemption: EPA authorized the use of potassium salt of hop beta acids in beehives to control varroa mite; February 4, 2015 to December 31, 2015.

Nevada

Department of Agriculture

Specific exemption: EPA authorized the use of potassium salt of hop beta acids in beehives to control varroa mite; March 20, 2015 to December 31, 2015.

North Carolina

Department of Agriculture and Consumer Services

Specific exemption: EPA authorized the use of fluridone in cotton to control Palmer amaranth; January 20, 2015 to August 31, 2015.

North Dakota

Department of Agriculture

Specific Exemption: EPA authorized the use of potassium salt of hop beta acids in beehives to control varroa mite; February 4, 2015 to December 31, 2015.

Ohio

Department of Agriculture

Specific exemption: EPA authorized the use of potassium salt of hop beta acids in beehives to control varroa mite; March 12, 2015 to December 31, 2015.

Oklahoma

Department of Agriculture, Food, and Forestry

Specific exemption: EPA authorized the use of sulfoxaflor on sorghum to control sugarcane aphid; March 27, 2015 to October 31, 2015.

Oregon

Department of Agriculture

Specific exemption: EPA authorized the use of potassium salt of hop beta acids in beehives to control varroa mite; February 4, 2015 to December 31, 2015.

Pennsylvania

Department of Agriculture

Specific exemption: EPA authorized the use of thiabendazole on mushroom to control Trichoderma green mold; March 26, 2015 to March 26, 2016.

South Carolina

Department of Pesticide Regulation

Specific exemption: EPA authorized the use of fluridone in cotton to control Palmer amaranth; January 20, 2015 to August 31, 2015.

Specific Exemption: EPA authorized the use of sulfoxaflor on sorghum to control sugarcane aphid; March 27, 2015 to November 30, 2015.

Tennessee

Department of Agriculture

Specific exemption: EPA authorized the use of fluridone in cotton to control Palmer amaranth; January 20, 2015 to August 31, 2015.

Specific exemption: EPA authorized the use of potassium salt of hop beta acids in beehives to control varroa mite; March 20, 2015 to December 31, 2015.

Texas

Department of Agriculture

Specific exemption: EPA authorized the use of potassium salt of hop beta acids in beehives to control varroa mite; February 4, 2015 to December 31, 2015.

Specific exemption: EPA authorized the use of flutriafol on cotton to control root rot; January 23, 2015 to June 30, 2015.

Specific exemption: EPA authorized the use of sulfoxaflor on sorghum to control sugarcane aphid; February 26, 2015 to October 31, 2015.

Utah

Department of Agriculture

Specific exemption: EPA authorized the use of potassium salt of hop beta acids in beehives to control varroa mite; March 12, 2015 to December 31, 2015.

Vermont

Department of Agriculture

Specific exemption: EPA authorized the use of potassium salt of hop beta acids in beehives to control varroa mite; February 4, 2015 to December 31, 2015.

Washington

State Department of Agriculture

Specific exemption: EPA authorized the use of potassium salt of hop beta acids in beehives to control varroa mite; February 4, 2015 to December 31, 2015.

West Virginia

Department of Agriculture

Specific exemption: EPA authorized the use of potassium salt of hop beta acids in beehives to control varroa mite; March 12, 2015 to December 31, 2015.

Wisconsin

Department of Agriculture, Trade and Consumer Protection

Specific exemption: EPA authorized the use of potassium salt of hop beta acids in beehives to control varroa mite; February 4, 2015 to December 31, 2015.

Wyoming

Department of Agriculture

Specific exemption: EPA authorized the use of potassium salt of hop beta acids in beehives to control varroa mite; February 4, 2015 to December 31, 2015.

B. Federal Departments and Agencies

National Aeronautics and Space Administration

Specific exemption: EPA authorized the use of ortho-phthalaldehyde (OPA) to control aerobic/microaerophilic water bacteria in the internal active thermal control system coolant of the International Space Station; November 26, 2014 to November 26, 2015.

Authority: 7 U.S.C. 136 et seq.

Dated: May 4, 2015.
Susan Lewis,
Director, Registration Division, Office of Pesticide Programs.

[FR Doc. 2015-11214 Filed 5-7-15; 8:45 am]

BILLING CODE 6560-50-P